DEPARTMENT OF COMMERCE

National Oceanic and Atmospheric Administration

50 CFR Part 622

[Docket No. 100217095-2081-04; RTID 0648-XD915]

Reef Fish Fishery of the Gulf of Mexico; 2024 Recreational Accountability Measure and Closure for Gulf of Mexico Red Grouper

AGENCY: National Marine Fisheries Service (NMFS), National Oceanic and Atmospheric Administration (NOAA), Commerce.

ACTION: Temporary rule; closure.

SUMMARY: NMFS implements an accountability measure (AM) for the red grouper recreational sector in the exclusive economic zone (EEZ) of the Gulf of Mexico (Gulf) for the 2024 fishing year through this temporary rule. NMFS has projected that the 2024 recreational annual catch target (ACT) for Gulf red grouper will have been reached by July 1, 2024. Therefore, NMFS closes the recreational sector for Gulf red grouper on July 1, 2024, and it will remain closed through the end of the fishing year on December 31, 2024. This closure is necessary to protect the Gulf red grouper resource.

DATES: This temporary rule is effective from 12:01 a.m., local time, on July 1, 2024, until 12:01 a.m., local time, on January 1, 2025.

FOR FURTHER INFORMATION CONTACT: Dan Luers, NMFS Southeast Regional Office, telephone: 727-551-5719, email: daniel.luers@noaa.gov.

SUPPLEMENTARY INFORMATION: NMFS manages the Gulf reef fish fishery, which includes red grouper, under the Fishery Management Plan for the Reef Fish Resources of the Gulf of Mexico (FMP). The Gulf of Mexico Fishery Management Council prepared the FMP, which was approved by the Secretary of Commerce, and NMFS implements the FMP through regulations at 50 CFR part 622 under the authority of the Magnuson-Stevens Fishery Conservation and Management Act (Magnuson-Stevens Act). All red grouper weights discussed in this temporary rule are in gutted weight.

In 2022, NMFS published a final rule implementing a framework action under the FMP (87 FR 40742, July 8, 2022), which set the current red grouper recreational annual catch limit (ACL) of 2.02 million lb (0.92 million kg) and the ACT of 1.84 million lb (0.83 million kg) (50 CFR part 622.41(e)(2)(iv)). Under regulations at 50 CFR 622.41(e)(2)(i), if red grouper recreational landings reach or are projected to reach the recreational ACL, NMFS will close the recreational sector for the remainder of the fishing year. However, as specified in 50 CFR 622.41(e)(2)(ii), in the year following a recreational ACL overage, NMFS is required to reduce the length of the following year's recreational fishing season by the amount necessary to ensure that the recreational ACT is not exceeded in that following year. Preliminary landings estimates indicate that the Gulf red grouper recreational ACL was exceeded in 2023 by 498,743 lb (226,226 kg).

NMFS projects that the 2024 recreational ACT for Gulf red grouper of 1.84 million lb (0.83 million kg) will be reached as of July 1, 2024. This closure date is based on projected harvest rates using the average of recreational landings from 2021 through 2023, and the evaluation of four scenarios that generated predicted closure dates ranging from July 13, 2024, to August 2, 2024. NMFS is acting conservatively in setting the 2024 recreational season by choosing an earlier closure date than the projecting scenarios because recreational harvest exceeded the red grouper recreational ACL by approximately 72 percent in 2021, by 35 percent in 2022, and by 25 percent in 2023. Accordingly, this temporary rule closes the recreational sector for Gulf red grouper effective at 12:01 a.m., local time, on July 1, 2024, through the end of the fishing year on December 31, 2024.

During the recreational closure, the bag and possession limits for red grouper in or from the Gulf EEZ are zero. The prohibition on possession of Gulf red grouper also applies in Gulf state waters for any vessel issued a valid Federal charter vessel/headboat permit for Gulf reef fish.

Classification

NMFS issues this action pursuant to section 305(d) of the Magnuson-Stevens Act. This action is required by 50 CFR 622.41(e)(2)(i) and (ii), which was issued pursuant to section 304(b) of the Magnuson-Stevens Act, and is exempt from review under Executive Order 12866.

Pursuant to 5 U.S.C. 553(b)(B), there is good cause to waive prior notice and an opportunity for public comment on this action, as notice and comment is unnecessary and contrary to the public interest. Such procedures are unnecessary because the regulations associated with the closure of the red grouper recreational sector at 50 CFR 622.41(e)(2)(i) and (ii) have already been subject to notice and public comment, and all that remains is to notify the public of the closure. Prior notice and opportunity for public comment are contrary to the public interest because there is a need to immediately implement this action to protect the red grouper stock and provide sufficient notice to recreational sector participants. Prior notice and opportunity for public comment would require time and could result in a harvest in excess of the established ACT and ACL. In addition, many charter vessel/headboat operations book trips for clients in advance and require as much notice as NMFS is able to provide to adjust their business plans to account for the recreational fishing season.

Authority: 16 U.S.C. 1801 et seq.

Dated: April 26, 2024.
Everett Wayne Baxter,
Acting Director, Office of Sustainable Fisheries, National Marine Fisheries Service.

[FR Doc. 2024-09384 Filed 4-30-24; 8:45 am]

BILLING CODE 3510-22-P